DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Form EIA-64A, “Annual Report of the Origin of Natural Gas Liquids Production” and Form EIA-23L, “Annual Report of Domestic Oil and Gas Reserves,” and continued suspension of Form EIA-23S, “Annual Survey of Domestic Oil and Gas Reserves (Summary Version),” as required under the Paperwork Reduction Act of 1995.

DATES: EIA must receive all comments on this proposed information collection no later than July 29, 2025. If you anticipate any difficulties in submitting your comments by the deadline, contact the person listed in the ADDRESSES section of this notice as soon as possible.

ADDRESSES: You may submit comments, identified by OMB control number 1905-0057, by email at EIA-FRNcomments@eia.gov. Include the OMB control number listed in the subject line of the message.

FOR FURTHER INFORMATION CONTACT: Kenneth Pick, EIA Clearance Officer, at (202) 586-5562. The forms and instructions are available on EIA's website at www.eia.gov/survey/.

SUPPLEMENTARY INFORMATION: This information collection request contains:

(1) OMB No.: 1905-0057;

(2) Information Collection Request Title: Oil and Gas Reserves System;

(3) Type of Request: Three-year extension with changes;

(4) Purpose: The surveys included in the Oil and Gas Reserves System collect information on U.S. proved crude oil, natural gas, and natural gas liquids reserves. The surveys included in the Oil and Gas Reserves System are the Form EIA-64A, “Annual Report of the Origin of Natural Gas Liquids Production,” Form EIA-23L, “Annual Report of Domestic Oil and Gas Reserves,” and Form EIA-23S, “Annual Survey of Domestic Oil and Gas Reserves, (Summary Version) (suspended).”

In response to Public Law 95-91 section 657, estimates of U.S. oil and gas reserves are to be reported annually. Many U.S. Government agencies have an interest in the definitions of proved oil and gas reserves and the quality, reliability, and usefulness of estimates of reserves. Among these are the U.S. Energy Information Administration (EIA), Department of Energy; Bureau of Ocean Energy Management (BOEM), Department of Interior; Internal Revenue Service (IRS), Department of the Treasury; and the Securities and Exchange Commission (SEC). Each of these organizations has specific purposes for collecting, using, or estimating proved reserves. The EIA has a congressional mandate to provide accurate annual estimates of U.S. proved crude oil, natural gas, and natural gas liquids reserves, and EIA presents annual reserves data in EIA Web reports to meet this requirement. The BOEM maintains estimates of proved reserves to carry out their responsibilities in leasing, collecting royalty payments, and regulating the activities of oil and gas companies on Federal waters. Accurate reserve estimates are important, as the BOEM is second only to the IRS in generating Federal revenue. For the IRS, proved reserves and occasionally probable reserves are an essential component of calculating taxes for companies owning or producing oil and gas. The SEC requires publicly traded petroleum companies to annually file a reserves statement as part of their 10-K filing. The basic purpose of the 10-K filing is to give the investing public a clear and reliable financial basis to assess the relative value, as a financial asset, of a company's reserves, especially in comparison to other similar oil and gas companies.

The Government also uses the resulting information to develop national and regional estimates of proved reserves of domestic crude oil, natural gas, and natural gas liquids to facilitate national energy policy decisions. These estimates are essential to the development, implementation, and evaluation of energy policy and legislation. Data are used directly in EIA Web reports concerning U.S. crude oil, natural gas, and natural gas liquids reserves, and are incorporated into a number of other Web reports and analyses;

(4a) Proposed Changes to Information Collection:

Form EIA-23L, Annual Report of Domestic Oil and Gas Reserves (Change to Instructions)

EIA proposes a minor modification to Form EIA-23L instructions to align the disclosure language with other EIA surveys, without substantially changing the intention of the disclosure language.

Form EIA-64A, Annual Report of the Origin of Natural Gas Liquids Production (Change to Instructions)

EIA proposes six minor modifications to Form EIA-64A instructions to clarify the data requested:

1. Page 1 of the instructions describing who must file the form indicates that “facilities” refers to natural gas processing plants. EIA proposes adding “including gas sweetening plants” to clarify the respondent frame.

2. Page 4 of the instructions includes a diagram to assist respondents when filling out Section 2 of the form. EIA proposes defining residue gas as “dry natural gas after liquids extraction” in the text describing the diagram. This is the first place EIA uses the term residue natural gas other than in the Section title.

3. Page 4 of the instructions for Section 2.1 request the total outlet of residue natural gas. EIA proposes clarifying the current definition of residue natural gas from “dry gas” to “dry natural gas after liquids extraction.”

4. Page 4 of the instructions for Section 2.2 request the total natural gas used on site as plant fuel. EIA proposes modifying the current instruction to clarify that this data should include natural gas that is used to generate electricity consumed by the plant.

5. EIA proposes changing all instances of “residue gas” to “residue natural gas” for consistency within the instructions.

6. Pages 6 and 7 of the instructions include a form glossary. EIA proposes adding a definition to this glossary for gas sweetening plants: “A type of natural gas processing plant designed for removal of impurities such as hydrogen sulfide, carbon dioxide, sulfur, etc. from sour gas to make it suitable for transport and use.”

(5) Annual Estimated Number of Respondents: 878;

(6) Annual Estimated Number of Total Responses: 878;

(7) Annual Estimated Number of Burden Hours: 15,768;

(8) Annual Estimated Reporting and Recordkeeping Cost Burden: $1,497,802 (15,768 estimated burden hours times $94.99). EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on May 23, 2025.
Samson A. Adeshiyan,
Director, Office of Statistical Methods and Research, U. S. Energy Information Administration.

[FR Doc. 2025-09780 Filed 5-29-25; 8:45 am]

BILLING CODE 6450-01-P